DEPARTMENT OF HEALTH AND HUMAN SERVICES

Indian Health Service

Notice of Purchased/Referred Care Delivery Area Redesignation for the Confederated Tribes of the Grand Ronde Community of Oregon

AGENCY: Indian Health Service, Department of Health and Human Services.

ACTION: Final notice.

SUMMARY: Notice is hereby given that the Indian Health Service (IHS) has decided to expand the geographic boundaries of the Purchased/Referred Care Delivery Area (PRCDA) for the Confederated Tribes of the Grand Ronde Community of Oregon (CTGR) to include the county of Clackamas in the State of Oregon. The current PRCDA for the CTGR includes the Oregon counties of Washington, Polk, Yamhill, Marion, Multnomah, and Tillamook. The sole purpose of this expansion is to authorize additional CTGR members and beneficiaries to receive purchased/referred care (PRC) services.

DATES: This expansion is effective as of the publication date of this notice.

ADDRESSES: This notice can be found at https://www.federalregister.gov. Written requests for information should be delivered to: CAPT John Rael, Director, Office of Resource Access and Partnerships, Indian Health Service, 5600 Fishers Lane, Mail Stop 10E85C, Rockville, MD 20857, or by phone at (301) 443-0969 (this is not a toll-free number).

SUPPLEMENTARY INFORMATION: The IHS provides services under regulations in effect as of September 15, 1987, and republished at 42 CFR part 136, subparts A-C. Subpart C defines a Contract Health Service Delivery Area (CHSDA), now referred to as a PRCDA, as the geographic area within which PRC will be made available by the IHS to members of an identified Indian community who reside in the PRCDA. Residence within a PRCDA by a person who is within the scope of the Indian health program, as set forth in 42 CFR 136.12, creates no legal entitlement to PRC but only potential eligibility for services. Services needed, but not available at an IHS/Tribal facility, are provided under the PRC program depending on the availability of funds, the relative medical priority of the services to be provided, and the actual availability and accessibility of alternate resources in accordance with the regulations.

The regulations at 42 CFR part 136, subpart C provide that, unless otherwise designated, a PRCDA shall consist of a county which includes all or part of a reservation and any county or counties which have a common boundary with the reservation. 42 CFR 136.22(a)(6). The regulations also provide that after Consultation with the Tribal governing body or bodies on those reservations included within the PRCDA, the Secretary may from time to time, redesignate areas within the United States for inclusion in or exclusion from a PRCDA. 42 CFR 136.22(b). The regulations require that certain criteria must be considered before any redesignation is made. The criteria are as follows:

(1) The number of Indians residing in the area proposed to be so included or excluded;

(2) Whether the Tribal governing body has determined that Indians residing in the area near the reservation are socially and economically affiliated with the Tribe;

(3) The geographic proximity to the reservation of the area whose inclusion or exclusion is being considered; and

(4) The level of funding which would be available for the provision of PRC.

Additionally, the regulations require that any redesignation of a PRCDA be made in accordance with the procedures of the Administrative Procedure Act (5 U.S.C. 553). 42 CFR 136.22(c). In compliance with this requirement, the IHS published a proposed notice of redesignation and requested public comments on August 7, 2023 (88 FR 52185). The IHS received one comment in response to the proposed notice of redesignation; the comment requested that the IHS engage in additional Tribal Consultation regarding the proposed PRCDA expansion.

Redesignation and expansion of the CTGR's PRCDA to include Clackamas County, Oregon, would create overlap with two Tribes whose existing PRCDAs also include Clackamas County: the Confederated Tribes of Siletz Indians of Oregon and the Confederated Tribes of the Warm Springs Reservation of Oregon.

The IHS initiated Consultation with each of these Tribes in 2021, and continued Consultation, as requested, through 2024. The primary concern raised during Tribal Consultation was whether the proposed expansion of the CTGR's PRCDA to include Clackamas County, Oregon, exceeded Congressional intent as expressed in the Grande Ronde Restoration Act, Public Law 98-165, Nov. 22, 1983. Although the IHS acknowledges this concern, the IHS has, under the PRC regulations, preserved flexibility to redesignate areas as appropriate for inclusion in or exclusion from PRC service delivery. See 81 FR 20388.

In support of this expansion, the IHS makes the following findings:

1. By expanding the PRCDA to include Clackamas County, the CTGR's eligible population will increase by an estimated 179 Tribal members residing in Clackamas County.

2. The Tribal members within the expanded PRCDA are socially and economically affiliated with the Confederated Tribes of the Grande Ronde Community of Oregon. A letter from the CTGR, dated May 19, 2021, noted that the CTGR members residing in Clackamas County are active members of the community and routinely participate in Tribal elections, General Council meetings, and Tribal events.

3. Clackamas County in the State of Oregon is “on or near” the reservation, as it maintains a common boundary with the current PRCDA consisting of the counties of Washington, Polk, Yamhill, Marion, Multnomah, and Tillamook in the State of Oregon.

4. The CTGR administers the PRC program and intends to use its existing Federal allocation for PRC, along with Tribal resources, to provide services to the expanded population. The CTGR acknowledged that no additional financial resources will be allocated by the IHS to provide services to CTGR members residing in Clackamas County in the State of Oregon.

An updated listing of the PRCDAs for all federally recognized Tribes may be accessed via a link on the IHS PRCDA Expansion website (https://www.ihs.gov/prc/prcda-expansion).

Public Comments: The IHS received one comment in response to the notice of proposed expansion. The comment requested that the IHS engage in additional Tribal Consultation regarding the proposed expansion. The IHS did engage in such additional Tribal Consultation, and decided to finalize the PRCDA expansion for the Confederated Tribes of the Grand Ronde Community of Oregon as proposed.

Roselyn Tso,
Director, Indian Health Service.

[FR Doc. 2024-18081 Filed 8-13-24; 8:45 am]

BILLING CODE 4166-14-P